DEPARTMENT OF HEALTH AND HUMAN SERVICES

National Institutes of Health

Center for Scientific Review; Amended Notice of Meeting

Notice is hereby given of a change in the meeting of the Center for Scientific Review Special Emphasis Panel, March 5, 2004, 10:30 a.m. to March 5, 2004, 5 p.m., Bethesda Marriott Suites, 6711 Democracy Boulevard, Bethesda, MD 20817 which was published in the Federal Register on February 10, 2004, 69 FR 6314-6317.

The starting time of the meeting has been changed to 9:30 a.m. The date and location remain the same. The meeting is closed to the public.

Dated: February 17, 2004.
LaVerne Y. Stringfield,
Director, Office of Federal Advisory Committee Policy.

[FR Doc. 04-3901 Filed 2-23-04; 8:45 am]

BILLING CODE 4140-01-M